DEPARTMENT OF TRANSPORTATION

Federal Aviation Administration

14 CFR Part 61

[Docket No. FAA-2006-26661; Amdt. No. 61-129A]

RIN 2120-AI86

Pilot, Flight Instructor, and Pilot School Certification; Technical Amendment

AGENCY: Federal Aviation Administration, DOT.

ACTION: Final rule; technical amendment.

SUMMARY: The FAA is correcting a final rule; technical amendment published on December 16, 2011 (76 FR 78141). This final rule; technical amendment was originally published to correct a final rule published on August 21, 2009 (74 FR 42500). In that original final rule, the FAA amended its regulations to revise the training, qualification, certification, and operating requirements for pilots, flight instructors, ground instructors, and pilot schools. A portion of the codified text was inadvertently deleted and this document corrects that error.

DATES: Effective: October 11, 2012.

FOR FURTHER INFORMATION CONTACT: For technical questions concerning this action, contact Jeffrey Smith, Airmen Certification and Training Branch, AFS-810, General Aviation and Commercial Division, Flight Standards Service, Federal Aviation Administration, 800 Independence Avenue SW., Washington, DC 20591; telephone (202) 493-4789; email to jeffrey.smith@faa.gov.

For legal questions concerning this action, contact Paul G. Greer, Office of the Chief Counsel, Regulations Division, AGC-210, Federal Aviation Administration, 800 Independence Avenue SW., Washington, DC 20591; telephone (202) 267-3073; email Paul.G.Greer@faa.gov.

SUPPLEMENTARY INFORMATION:

Technical Amendment

On December 16, 2011 (76 FR 78141), the FAA published a final rule; technical amendment. This final rule; technical amendment was originally published to correct a final rule published on August 21, 2009 (74 FR 42500). That original final rule revised the training, qualification, certification, and operating requirements for pilots, flight instructors, ground instructors, and pilot schools. The FAA is now issuing an additional final rule; technical amendment that corrects the codified text that was inadvertently deleted in § 61.23.

Because the changes in this technical amendment result in no substantive change, we find good cause exists under 5 U.S.C. 553(d)(3) to make the amendment effective in less than 30 days.

List of Subjects in 14 CFR Part 61

Aircraft, Airmen, Aviation safety.

The Amendment

In consideration of the foregoing, the Federal Aviation Administration amends chapter I of title 14, Code of Federal Regulations as follows:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

2. Amend § 61.23 by revising paragraph (c) to read as follows:

§ 61.23 Medical certificates: requirement and duration.

* * * * *

(c) Operations requiring either a medical certificate or U.S. driver's license. (1) A person must hold and possess either a medical certificate issued under part 67 of this chapter or a U.S. driver's license when—

(i) Exercising the privileges of a student pilot certificate while seeking sport pilot privileges in a light-sport aircraft other than a glider or balloon;

(ii) Exercising the privileges of a sport pilot certificate in a light-sport aircraft other than a glider or balloon;

(iii) Exercising the privileges of a flight instructor certificate with a sport pilot rating while acting as pilot in command or serving as a required flight crewmember of a light-sport aircraft other than a glider or balloon; or

(iv) Serving as an Examiner and administering a practical test for the issuance of a sport pilot certificate in a light-sport aircraft other than a glider or balloon.

(2) A person using a U.S. driver's license to meet the requirements of this paragraph must—

(i) Comply with each restriction and limitation imposed by that person's U.S. driver's license and any judicial or administrative order applying to the operation of a motor vehicle;

(ii) Have been found eligible for the issuance of at least a third-class airman medical certificate at the time of his or her most recent application (if the person has applied for a medical certificate);

(iii) Not have had his or her most recently issued medical certificate (if the person has held a medical certificate) suspended or revoked or most recent Authorization for a Special Issuance of a Medical Certificate withdrawn; and

(iv) Not know or have reason to know of any medical condition that would make that person unable to operate a light-sport aircraft in a safe manner.

* * * * *

Issued in Washington, DC, on October 1, 2012.
Lirio Liu,
Acting Director, Office of Rulemaking.

[FR Doc. 2012-25034 Filed 10-10-12; 8:45 am]

BILLING CODE 4910-13-P